NUCLEAR REGULATORY COMMISSION

Sunshine Federal Register Notice

Date: Weeks of January 12, 19, 26, February 2, 9, 16, 2009.

Place: Commissioners' Conference Room, 11555 Rockville Pike, Rockville, Maryland.

Status: Public and closed.

Week of January 12, 2009

There are no meetings scheduled for the week of January 12, 2009.

Week of January 19, 2009—Tentative

There are no meetings scheduled for the week of January 19, 2009.

Week of January 26, 2009—Tentative

There are no meetings scheduled for the week of January 26, 2009.

Week of February 2, 2009—Tentative

Wednesday, February 4, 2009

1:30 p.m.

Briefing on Risk-Informed, Performance-Based Regulation (Public Meeting) (Contact: Gary Demoss, 301-251-7584)

This meeting will be webcast live at the Web address— http://www.nrc.gov

Thursday, February 5, 2009

9:30 a.m.

Briefing on Uranium Enrichment (Public Meeting)(Contact: Brian Smith, 301-492-3137)

This meeting will be webcast live at the Web address— http://www.nrc.gov

Week of February 9, 2009—Tentative

There are no meetings scheduled for the week of February 9, 2009.

Week of February 16, 2009—Tentative

There are no meetings scheduled for the week of February 16, 2009.

* * * * *

*The schedule for Commission meetings is subject to change on short notice. To verify the status of meetings, call (recording)—(301) 415-1292. Contact person for more information: Rochelle Bavol, (301) 415-1651.

* * * * *

* * * * *

The NRC Commission Meeting Schedule can be found on the Internet at: http://www.nrc.gov/about-nrc/policy-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

Dated: January 8, 2009.
Rochelle C. Bavol,
Office of the Secretary.

[FR Doc. E9-585 Filed 1-9-09; 11:15 am]

BILLING CODE 7590-01-P